DEPARTMENT OF JUSTICE

Notice of Lodging of Proposed Consent Decree

In accordance with Departmental Policy, 28 CFR 50.7, notice is hereby given that a proposed Consent Decree in United States v. Tuckahoe Turf Farms, Inc. and Tuckahoe Land Investment Co., Civ. No. 03-157-PS (D. Maine), was lodged with the United States District Court for the District of Maine on June 26, 2003. This proposed Consent Decree concerns a complaint filed by the United States of America against Tuckahoe Turf Farms, Inc. and Tuckahoe Land Investment Co., pursuant to subsections 309(b) and (d) of the Clean Water Act, 33 U.S.C. 1319(b), (d), to obtain injunctive relief and impose civil penalties against the Defendants for unlawfully discharging dredged or fill materials into waters of the United States at two sites located in Berwick, York County, Maine.

The proposed Consent Decree requires the Defendants to pay a civil penalty for their unauthorized discharges into waters of the United States. The proposed Consent Decree further requires the Defendants to develop and complete a wetland restoration project to restore and replace ecological functions and values lost as a result of their allegedly unlawful discharge activities. In addition, the Defendants have agreed to establish and maintain a supplemental environmental project (“SEP”), which consists of a conservation easement to preserve wetland and upland buffer habitat in and around the vicinity of the sites.

The Department of Justice will receive written comments relating to this proposed Consent Decree for thirty (30) days from the date of publication of this notice. Please address comments to the Assistant Attorney General, Environment and Natural Resources Division, Department of Justice, Attention: Joshua M. Levin, PO Box 23986, Washington, DC 20026-3986. Please refer to the matter of United States v. Tuckahoe Turf Farms, Inc., DJ Reference No. 90-5-1-1-16745.

The proposed Consent Decree may be examined at the Clerk's Office, United States District Court for the District of Maine, 156 Federal Street, Portland, Maine 04101. In addition, the proposed Consent Decree may be viewed on the World Wide Web at http://www.usdoj.gov/enrd/enrd-home.html.

Scott A. Schachter,
Assistant Section Chief, Environmental Defense Section, Environment and Natural Resources Division.

[FR Doc. 03-18049 Filed 7-16-03; 8:45 am]

BILLING CODE 4410-15-M